DEPARTMENT OF LABOR

Employment and Training Administration

[TA-W-52,538]

Custom Tool and Design, Inc., Erie, PA; Notice of Revised Determination on Reconsideration

On November 21, 2003, the Department issued a Notice of Affirmative Determination Regarding Application for Reconsideration, applicable to workers of the subject firm. The notice was published in the Federal Register on December 19, 2003 (68 FR 70837-70838).

On September 23, 2003, the initial petition investigation for workers of Custom Tool and Design, Inc., Erie, Pennsylvania resulted in a negative decision because criteria I.B. and II.B. of the worker group eligibility requirements of the Trade Act of 1974, as amended, were not met. Sales and production of plastic injection molds increased in January through July 2003 when compared to the same time period of the previous year.

Officials of Custom Tool and Design, Inc. provided new information to the Department showing that sales and production of plastic injection molds declined in January through August 2003 over the corresponding period of 2002.

Subsequently, the Department conducted a survey of major customers of the subject firm regarding their purchases of plastic injection molds during 2001, 2002 and January through August 2003. Results of this survey revealed that major declining customer(s) of Custom Tool and Design, Inc. increased import purchases of plastic injection molds, while reducing purchases from the subject firm.

Conclusion

After careful consideration of the new facts obtained on reconsideration, it is concluded that increased imports of plastic injection molds like or directly competitive with those produced by Custom Tool and Design, Inc., Erie, Pennsylvania, contributed importantly to the decline in sales or production and to the total or partial separation of workers of that firm.

In accordance with the provisions of the Trade Act of 1974, I make the following revised determination:

All workers of Custom Tool and Design, Inc., Erie, Pennsylvania, who became totally or partially separated from employment on or after July 23, 2002, through two years from the date of certification, are eligible to apply for adjustment assistance under section 223 of the Trade Act of 1974.

Signed in Washington, DC, this 6th day of January, 2004.
Linda G. Poole,
Certifying Officer, Division of Trade Adjustment Assistance.

[FR Doc. 04-997 Filed 1-15-04; 8:45 am]

BILLING CODE 4510-30-P